Presidential Determination No. 2000-21 of June 2, 2000

Determination Under Subsection 402(d)(1) of the Trade Act of 1974, as Amended: Continuation of Waiver Authority for Vietnam

Memorandum for the Secretary of State

Pursuant to subsection 402(d)(1) of the Trade Act of 1974, as amended (the “Act”), 19 U.S.C. 2432(d)(1), I determine that the further extension of the waiver authority granted by subsection 402(c) of the Act will substantially promote the objectives of section 402 of the Act. I further determine that the continuation of the waiver applicable to Vietnam will substantially promote the objectives of section 402 of the Act.

You are authorized and directed to publish this determination in the Federal Register.

wj

THE WHITE HOUSE,

Washington, June 2, 2000.

[FR Doc. 00-14620

Filed 6-7-00; 8:45 am]

Billing code 4710-10-M